DEPARTMENT OF LABOR

Employment and Training Administration

Investigations Regarding Certifications of Eligibility To Apply for Worker Adjustment Assistance and Alternative Trade Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than May 11, 2009.

Interested persons are invited to submit written comments regarding the subject matter of the investigations to the Director, Division of Trade Adjustment Assistance, at the address shown below, not later than May 11, 2009.

The petitions filed in this case are available for inspection at the Office of the Director, Division of Trade Adjustment Assistance, Employment and Training Administration, U.S. Department of Labor, Room N-5428, 200 Constitution Avenue, NW., Washington, DC 20210.

Signed at Washington, DC, this 21st day of April 2009.
Linda G. Poole
Certifying Officer, Division of Trade Adjustment Assistance.

Appendix
[TAA petitions instituted between 4/6/09 and 4/10/09]
TA-W | Subject firm (petitioners) | Location | Date of institution | Date of petition
65749 | Warvel Products, Inc. (Comp) | Linwood, NC | 04/06/09 | 04/03/09
65750 | Chick Machine Company, Inc. (Comp) | Butter, PA | 04/06/09 | 04/03/09
65751 | Allegheny Ludlum—Brackenridge Works (USW) | Brackenridge, PA | 04/06/09 | 03/11/09
65752 | Bridgestone APM Plant 1 (Wkrs) | Findlay, OH | 04/06/09 | 03/30/09
65753 | Weyerheauser Company (IAMAW) | Warrenton, OR | 04/06/09 | 03/16/09
65754 | Chromalox Precision (Wkrs) | Pittsburgh, PA | 04/06/09 | 04/02/09
65755 | Property Insight (Wkrs) | Towson, MD | 04/06/09 | 04/03/09
65756 | iLevel by Weyerhaeuser (State) | Colbert, GA | 04/06/09 | 04/03/09
65757 | Corning, Inc./Blacksburg Virginia Plant (USW) | Christiansburg, VA | 04/06/09 | 04/03/09
65758 | Paul Mueller, Inc. (Wkrs) | Springfield, MO | 04/06/09 | 03/19/09
65759 | Arvin Meritor (State) | Detroit, MI | 04/07/09 | 03/08/09
65760 | Classic Leather (Wkrs) | Hickory, NC | 04/07/09 | 04/06/09
65761 | True Temper Sports (Wkrs) | Memphis, TN | 04/07/09 | 03/25/09
65762 | Chrysler LLC (Wkrs) | Sterling Heights, MI | 04/07/09 | 03/08/09
65763 | Leo Schachter Diamond, LLC (Wkrs) | New York, NY | 04/07/09 | 03/30/09
65764 | La-Z-Boy South (Comp) | Newton, MS | 04/07/09 | 04/03/09
65765 | La-Z-Boy Midwest (Comp) | Neosho, MO | 04/07/09 | 04/03/09
65766 | La-Z-Boy Tennessee (Comp) | Dayton, TN | 04/07/09 | 04/03/09
65767 | La-Z-Boy Incorporated (Michigan) (Comp) | Monroe, MI | 04/07/09 | 04/03/09
65768 | HMC Technologies (Comp) | New Albany, MS | 04/07/09 | 04/06/09
65769 | Intat Precision (Wkrs) | Rushville, IN | 04/07/09 | 04/03/09
65770 | Westport Shipyard, Inc. (Wkrs) | Westport, WA | 04/08/09 | 04/02/09
65771 | Weyerhaeuser Veneer Technologies (State) | Simsboro, LA | 04/08/09 | 04/06/09
65772 | Snorkel International (Wkrs) | Elwood, KS | 04/08/09 | 04/06/09
65773 | Southern Glove Manufacturing Co., Inc. (Comp) | Conover, NC | 04/08/09 | 04/06/09
65774 | Stein Steel Mill Services (USW) | Broadview Heights, OH | 04/08/09 | 03/30/09
65775 | Circor Energy (Wkrs) | Oklahoma City, OK | 04/08/09 | 04/07/09
65776 | Mercedes-Benz-MBUSI (Wkrs) | Vance, AL | 04/08/09 | 04/03/09
65777 | I-Level Wright City Sawmill (Weyerhaeuser) (Comp) | Wright City, OK | 04/09/09 | 04/07/09
65778 | VP Buildings Inc. (Wkrs) | Kernersville, NC | 04/09/09 | 04/08/09
65779 | Penquin, LLC (Comp) | Sturgis, MI | 04/09/09 | 04/07/09
65780 | Bobcat Company (Wkrs) | Gwinner, ND | 04/09/09 | 04/08/09
65781 | Mars Petcare (Comp) | McKenzie, TN | 04/09/09 | 04/03/09
65782 | Ceco Building Systems (Comp) | Mt. Pleasant, IA | 04/10/09 | 04/09/09
65783 | Thomas Steel Strip Corporation (Wkrs) | Warren, OH | 04/10/09 | 04/08/09
65784 | Oval International (State) | Hoquiam, WA | 04/10/09 | 04/09/09
65785 | Dell USA LP (Wkrs) | Round Rock, TX | 04/10/09 | 04/08/09

[FR Doc. E9-9933 Filed 4-29-09; 8:45 am]

BILLING CODE 4510-FN-P